DEPARTMENT OF AGRICULTURE

Animal and Plant Health Inspection Service

[Docket No. APHIS-2010-0007]

Privacy Act Systems of Records; APHIS Animal Health Surveillance and Monitoring System

AGENCY: Animal and Plant Health Inspection Service, USDA.

ACTION: Notice of a proposed new system of records; request for comment.

SUMMARY: The Animal and Plant Health Inspection Service proposes to add a system of records to its inventory of records systems subject to the Privacy Act of 1974, as amended. The system of records being proposed is the APHIS Animal Health Surveillance and Monitoring System, USDA-APHIS-15. This notice is necessary to meet the requirements of the Privacy Act to publish in the Federal Register notice of the existence and character of record systems maintained by the agency.

Although the Privacy Act requires only that the portion of the system which describes the “routine uses” of the system be published for comment, we invite comment on all portions of this notice.

DATES: Effective Date: This system will be adopted without further notice on January 9, 2012 unless modified to respond to comments received from the public and published in a subsequent notice.

Comment date: Comments must be received, in writing, on or before December 28, 2011.

ADDRESSES: You may submit comments by either of the following methods:

• Federal eRulemaking Portal: Go to: http://www.regulations.gov/fdmspublic/component/main?main=DocketDetail&d=APHIS-2010-0007 to submit or view comments.

• Postal Mail/Commercial Delivery: Please send one copy of your comment to Docket No. APHIS-2010-0007, Regulatory Analysis and Development, PPD, APHIS, Station 3A-03.8, 4700 River Road Unit 118, Riverdale, MD 20737-1238. Please state that your comment refers to Docket No. APHIS-2010-0007.

Docket: You may view any comments we receive at the Federal eRulemaking Portal (Web address above) or in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Dr. Diane Sutton, Senior Staff Veterinarian, VS, APHIS, 4700 River Road Unit 43, Riverdale, MD 20737; (301) 734-4913.

SUPPLEMENTARY INFORMATION: The Privacy Act of 1974, as amended (5 U.S.C. 552a), requires agencies to publish in the Federal Register notice of new or revised systems of records maintained by the agency. A system of records is a group of any records under the control of any agency, from which information is retrieved by the name of an individual or by some identifying number, symbol, or other identifying particular assigned to an individual.

The Animal and Plant Health Inspection Service (APHIS) of the U.S. Department of Agriculture (USDA) is proposing to add a new system of records, entitled APHIS Animal Health Surveillance and Monitoring System (AHSM), that will be used to maintain records of activities conducted by the agency pursuant to its mission and responsibilities authorized by the Animal Health Protection Act (7 U.S.C. 8301 et seq.); Bovine Johne's Disease Control Program (7 U.S.C. 7629); and the Public Health Security and Bioterrorism Preparedness and Response Act of 2002 (7 U.S.C. 8401).

APHIS' Veterinary Services (VS) program will use the AHSM to collect, manage, and evaluate animal health data for disease control and surveillance programs. The AHSM will assist APHIS in obtaining and analyzing relevant epidemiological information, identifying appropriate response tactics, and effectively responding to an animal disease event in the United States. It will also allow us to identify and notify the owners of animals that have been or may have been exposed in an animal disease event. The AHSM may also be used to document animal health program results to justify expenditures and compile statistical data about animal disease control or surveillance programs.

The AHSM contains modules for the Veterinary Services Laboratory Submissions (VSLS), the National Poultry Improvement Plan (NPIP), and the Mobile Information Management system (MIM).

The AHSM contains personally identifiable information about the individual listed as the contact person for the location where the animals subject to animal disease control or surveillance programs are maintained and the owner of animals involved with animal disease control or surveillance programs. Such information includes name; mailing and physical address, including city, county, State, postal code, and latitude/longitude coordinates; telephone number; email address; and any animal, sample, or location identification numbers associated with the person. The system also contains information about APHIS employees, cooperators, and contractors who are directly involved in animal disease control or surveillance program activities such as name, home and work address, home and work email addresses, telephone number(s), and any assigned identification numbers.

Routine Uses of Records Maintained in the System, Including Categories of Users and the Purposes of Such Uses

APHIS may routinely share data in the AHSM with certain Federal and State animal health officials or Federal or State wildlife agencies for assistance in conducting, managing, and analyzing animal disease or surveillance programs, and monitoring animal diseases including those related to wildlife, feral animals, or alternative livestock. Data may also be shared with Federal or State agencies involved with public health such as the Departments of Homeland Security and Health and Human Services for the purposes of zoonotic disease surveillance or control activities. APHIS may also share data in the AHSM with the public through a Web site that lists participants in voluntary animal disease certification or quality assurance programs, and lists individuals or entities not in compliance with animal disease regulations. APHIS may also use the Web site to notify individuals who may have acquired exposed or potentially exposed animals when other means of contact are unavailable.

Other routine uses of this information include releases related to investigations pertaining to violations of law or related to litigation. A complete listing of the routine uses for this system is included in the accompanying document that is published along with this notice.

The proposed information collection requests associated with this system have been approved by or submitted for approval by the Office of Management and Budget under the Paperwork Reduction Act.

Title and Business Address of the Agency Official Responsible for the System of Record

Chief Information Officer, U.S. Department of Agriculture, 1400 Independence Ave. SW., Washington, DC 20250.

Report on New System

A report on the new system of records, required by 5 U.S.C. 552a(r), as implemented by Office of Management and Budget Circular A-130, was sent to the Chairman, Committee on Homeland Security and Governmental Affairs, United States Senate; the Chairman, Committee on Oversight and Government Reform, House of Representatives; and the Administrator, Office of Information and Regulatory Affairs, Office of Management and Budget.

Signed in Washington, DC, on November 11, 2011.
Thomas J. Vilsack,
Secretary.

SYSTEM NAME:

APHIS Animal Health Surveillance and Monitoring System, USDA-APHIS-15.

Security Classification:

None.

System Location:

The AHSM is a Web-based system hosted at secure and geographically dispersed locations. A backup copy of the data is maintained at a secure U.S. government facility.

Categories of Individuals Covered by the System:

Individuals who are listed as the contact person for the location where the animals subject to animal disease control or surveillance programs are maintained; owners of animals involved with animal disease control or surveillance programs; dealers, agents, and brokers of animals; owners or operators of animal product processing, slaughter, or rendering establishments; accredited veterinarians; contractors; cooperators; and certain APHIS employees.

Categories of Records in the System:

For the individuals listed as the contact person for the location where the animals subject to animal disease control or surveillance programs are maintained; owners of animals involved with animal disease control or surveillance programs; dealers, agents, and brokers of animals; or owners or operators of animal product processing, slaughter, or rendering establishments; the following information will be retained: Name; address, including city, county, State, postal code, and latitude/longitude coordinates; e-mail address; telephone number; operation type; species and breed of animals maintained; and data necessary for managing and analyzing animal disease control or surveillance programs and monitoring diseases related to wildlife, feral animals, or alternative livestock. The information retained for APHIS employees, cooperators, and contractors may include name; home and work address; home and work e-mail addresses; telephone number(s); and any assigned identification numbers.

Authority for Maintenance of the System:

Animal Health Protection Act (7 U.S.C. 8301 et seq.); Bovine Johne's Disease Control Program (7 U.S.C. 7629); and the Public Health Security and Bioterrorism Preparedness and Response Act of 2002 (7 U.S.C. 8401).

Purpose(s):

APHIS Veterinary Services (VS) program uses the AHSM to collect, manage, and evaluate animal health data for disease management and surveillance programs.

Routine Uses of Records Maintained in the System, Including Categories of Users and the Purposes of Such Uses:

In addition to those disclosures generally permitted under 5 U.S.C. 552a(b) of the Privacy Act, records maintained in the system may be disclosed outside USDA as follows:

(1) To certain Federal and State animal health officials to conduct, analyze, and report on the progress of animal disease control or surveillance programs;

(2) To Federal and State wildlife agencies for assistance in managing and analyzing animal disease control or surveillance programs and monitoring diseases related to wildlife, feral animals, or alternative livestock;

(3) To Federal or State agencies involved with public health such as the Departments of Homeland Security and Health and Human Services for the purposes of zoonotic disease surveillance or control activities;

(4) To the public through a public Web site which lists participants in voluntary animal disease certification or quality assurance programs and documents compliance with such programs; lists individuals not in compliance with animal disease regulations; and notifies individuals who may have acquired exposed or potentially exposed animals when other means of contact are unavailable;

(5) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(6) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(7) For use in a proceeding before a court or adjudicative body before which the agency is authorized to appear, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(8) To appropriate agencies, entities, and persons when the agency suspects or has confirmed that the security or confidentiality of information in the system of records has been compromised; the agency has determined that as a result of the suspected or confirmed compromise there is a risk of harm to economic or property interests, a risk of identity theft or fraud, or a risk of harm to the security or integrity of this system or other systems or programs (whether maintained by the agency or another agency or entity) that rely upon the compromised information; and the disclosure made to such agencies, entities, and persons is reasonably necessary to assist in connection with the agency's efforts to respond to the suspected or confirmed compromise and prevent, minimize, or remedy such harm;

(9) To contractors and other parties engaged to assist in administering the program. Such contractors and other parties will be bound by the nondisclosure provisions of the Privacy Act. This routine use assists the agency in carrying out the program, and thus is compatible with the purpose for which the records are created and maintained;

(10) To USDA contractors, partner agency employees or contractors, or private industry employed to identify patterns, trends or anomalies indicative of fraud, waste, or abuse; and

(11) To the National Archives and Records Administration or to the General Services Administration for records management inspections conducted under 44 U.S.C. 2904 and 2906.

Disclosure to Consumer Reporting Agencies:

None.

Storage:

Records are maintained on magnetic tape and optical disk. Backup media is taken weekly to an offsite storage facility and stored on tape.

Retrievability:

Records are retrieved primarily by first or last name, address, or phone number of the individual listed as the contact person for the location where the animal(s) subject to animal disease control or surveillance programs are maintained or the owner of animals involved with animal disease control or surveillance programs; and by animal, flock, herd, or premises numbers. However, under this system records can be retrieved by any of the categories that have been recorded.

Safeguards:

The AHSM security plan includes management, operational, and technical controls to prevent misuse of data by system users. These controls include the use of role-based security and access rights, network firewalls, and requiring all users to obtain a government-issued login. Access to the system is monitored by USDA officials to ensure authorized and appropriate use of the data.

Retention and Disposal:

Individual electronic records are retained within the system for 150 years from the last date of creation, edit, or access of the records. Incremental and full system tape backups are retained for 1 month.

System Managers(s) and Address:

Associate Deputy Administrator, National Animal Health Policy and Programs, Veterinary Services, APHIS, USDA, 4700 River Road Unit 33, Riverdale, MD 20737.

Notification Procedure:

Any individual may request general information regarding this system of records or information as to whether the system contains records pertaining to him/her from the system manager at the address above. All inquiries pertaining to this system should be in writing, must name the system of records as set forth in the system notice, and must contain the individual's name, telephone number, address, and email address.

Record Access Procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting Record Procedures:

Any individual may contest information contained within a record in the system that pertains to him/her by submitting a written request to the system manager at the address above. Include the reason for contesting the record and the proposed amendment to the information with supporting documentation to show how the record is inaccurate.

Record Source Categories:

Information in this system comes primarily from the customers, including the individuals listed as the contact person for the location where the animals subject to animal disease control or surveillance programs are maintained, and the owners of animals involved with animal disease control or surveillance programs. Such information may be supplemented by information from other USDA agencies such as the Food Safety and Inspection Service, Farm Service Agency, APHIS' Wildlife Services, or from State veterinary health officials and animal testing laboratories.

Employee, cooperator, and contractor information is obtained primarily from the employee, cooperator, or contractor.

Exemptions Claimed for the System:

None.

[FR Doc. 2011-30429 Filed 11-25-11; 8:45 am]

BILLING CODE 3410-34-P